CORPORATION FOR NATIONAL AND COMMUNITY SERVICE

Sunshine Act Meetings

The Board of Directors of the Corporation for National and Community Service gives notice of the following meeting:

TIME AND DATE: Wednesday, September 19, 2018, 12:00 p.m.-1:00 p.m. (ET).

PLACE: Corporation for National and Community Service, 250 E Street SW, Suite 4026, Washington, DC 20525. Please go to the first floor lobby reception area for escort.

CALL-IN INFORMATION: This meeting is available to the public via conference call through the following toll-free call-in number: 888-603-9224; the call access code number is 8900220. Any interested member of the public may call this number and listen to the meeting. Callers can expect to incur charges for calls they initiate over wireless lines, and CNCS will not refund any incurred charges. Callers will incur no charge for calls they initiate over land-line connections to the toll-free telephone number. Call replays are generally available one hour after a call ends. The toll-free phone number for the replay is 800-860-4697. The end date for the replay is October 3, 2018 at 11:59 p.m. (ET).

STATUS: Open.

MATTERS TO BE CONSIDERED:

I. Chair's Opening Comments

II. CEO Report

III. Public Comments

IV. Final Comments and Adjournment

Members of the public who would like to comment on the business of the Board may do so in writing or in person. Individuals may submit written comments to sscott@cns.gov with subject line: September 2018 CNCS Board Meeting by 5:00 p.m. (ET) on September 17, 2018. Individuals attending the meeting in person who would like to comment will be asked to sign in upon arrival. Comments are requested to be limited to 2 minutes.

REASONABLE ACCOMMODATIONS: The Corporation for National and Community Service provides reasonable accommodations to individuals with disabilities, where appropriate. Anyone who needs an interpreter or other accommodation should notify Sandy Scott at sscott@cns.gov or 202-606-6724 by 5 p.m. (ET) by September 14, 2018.

CONTACT PERSON FOR MORE INFORMATION: Sandy Scott, Senior Advisor, Corporation for National and Community Service, 250 E Street SW, Washington, DC 20525. Phone: 202-606-6724. Fax: 202-606-3460. TTY: 800-833-3722. Email: sscott@cns.gov.

Timothy F. Noelker,
General Counsel.

[FR Doc. 2018-19494 Filed 9-5-18; 11:15 am]

BILLING CODE 6050-28-P